DEPARTMENT OF TRANSPORTATION

Maritime Administration

[Docket Number MARAD-2022-0254]

Aquaculture Support Operations Waiver Request for the Vessels COLBY PERCE, RONJA CARRIER, SADIE JANE, MISS MILDRED 1, KC COMMANDER

AGENCY: Maritime Administration (MARAD), Department of Transportation (DOT).

ACTION: Notice and request for comments.

SUMMARY: Pursuant to a delegation of authority from the Secretary of Transportation, the Maritime Administrator is authorized to issue an Aquaculture Support Operations Waiver to U.S. documented vessels with registry endorsements or foreign flag vessels in operations that treat aquaculture fish or protect aquaculture fish from disease, parasitic infestation, or other threats to their health upon a finding that suitable vessels of the United States are not available that could perform those operations. MARAD has received an Aquaculture Support Operations waiver request and is publishing this notice to solicit comments that may assist MARAD in determining whether suitable vessels of the United States are available that could perform the proposed aquaculture support operations set forth in the request. A brief description of the proposed aquaculture support operations is listed in the SUPPLEMENTARY INFORMATION section below.

DATES: Submit comments on or before January 9, 2023.

ADDRESSES: You may submit comments identified by DOT Docket Number MARAD-2022-0254 by any of the following methods:

• On-line via the Federal Electronic Portal: http://www.regulations.gov. Search using “MARAD-2022-0254” and follow the instructions for submitting comments.

• Mail/Hand-Delivery/Courier: Docket Management Facility; U.S. Department of Transportation, 1200 New Jersey Avenue SE, Room W12-140, Washington, DC 20590. Submit comments in an unbound format, no larger than 8½ by 11 inches, suitable for copying and electronic filing.

Reference Materials and Docket Information: You may view the complete application, including the aquaculture support technical service requirements, and all public comments at the DOT Docket on-line via http://www.regulations.gov. Search using “MARAD-2022-0254.” All comments received will be posted without change to the docket, including any personal information provided. The Docket Management Facility is open 9:00 a.m. to 5:00 p.m., Monday through Friday, except on Federal holidays.

FOR FURTHER INFORMATION CONTACT: Jennifer Meurer, U.S. Department of Transportation, Maritime Administration, 1200 New Jersey Avenue SE, Room W23-436, Washington, DC 20590. Email: Jennifer.Meurer@dot.gov. Phone: 202-366-4946.

If you have questions on viewing the Docket, call Docket Operations, telephone: (800) 647-5527.

SUPPLEMENTARY INFORMATION: Pursuant to 46 CFR 106.115, vessel owners, operators, or charterers of U.S. documented vessels with registry endorsements or foreign flag vessels are required to provide prior notification to the United States Coast Guard (USCG) of aquaculture support operations in U.S. waters. The notification, in part, must include a copy of a MARAD-issued Aquaculture Support Operations Waiver. Pursuant to 46 U.S.C. 12102(d), the Secretary of Transportation has the authority to issue Aquaculture Support Operations Waivers to U.S. documented vessels with registry endorsements or foreign flag vessels engaged in operations that treat aquaculture fish or protect aquaculture fish from disease, parasitic infestation, or other threats to their health after a finding that suitable vessels of the United States are not available that could perform those operations. The Secretary has delegated this authority to the Maritime Administrator.

MARAD has received an Aquaculture Support Operations Waiver request from Cooke Aquaculture USA, Inc. (Cooke) for the operations of the Canadian-flag vessels COLBY PERCE, RONJA CARRIER, SADIE JANE, MISS MILDRED 1, KC COMMANDER. Cooke proposes, in part, “to use highly-specialized foreign-flag vessels referred to as a “wellboat” (or “live fish carrier”) to treat Cooke's swimming inventory of farmed Atlantic salmon in the company's salt-water grow-out pens off Maine's North Atlantic Coast. This treatment prevents against parasitic infestation by sea lice that is highly destructive to the salmon's health.” Cooke proposes to operate the vessels off Maine's North Atlantic Coast during the 2023 calendar year, from January 1 to December 31, 2023. Further details of Cooke's proposed operations may be found in the waiver request posted in the docket.

The public may submit comments providing detailed information relating to the availability of U.S.-flag vessels to perform the proposed aquaculture support operations set forth in Cooke's waiver request. Comments should reference the docket number of this notice, the vessel names, the commenter's interest in the application, and address whether there are suitable U.S. vessels available to conduct the proposed aquaculture support operations.

Privacy Act

In accordance with 5 U.S.C. 553(c), MARAD solicits comments from the public to inform its decision determining the availability of suitable U.S.-flag vessels to conduct the aquaculture support operations proposed in this notice. All timely comments will be considered; however, to facilitate comment tracking, commenters should provide their name or the name of their organization. If comments contain proprietary or confidential information, commenters may contact the agency for alternate submission instructions. Anyone can search the electronic form of all comments received into any of our dockets by the name of the individual submitting the comment (or signing the comment, if submitted on behalf of an association, business, labor union, etc.). For information on DOT's compliance with the Privacy Act, please visit https://www.transportation.gov/privacy.

(Authority: 49 CFR 1.93(w))

* * * * *

By order of the Maritime Administrator.
T. Mitchell Hudson, Jr.,
Secretary, Maritime Administration.

[FR Doc. 2022-26821 Filed 12-8-22; 8:45 am]

BILLING CODE 4910-81-P